DEPARTMENT OF AGRICULTURE

Agricultural Marketing Service

[Doc. No. AMS-SC-18-0008; SC18-944/980/999-1]

International Trade Data System Test Concerning the Electronic Submission Through the Automated Commercial Environment of Notification of Importation of Fruits, Vegetables, and Specialty Crops Required by the Agricultural Marketing Service Using the Partner Government Agency Message Set; Conclusion of Pilot Test

AGENCY: Agricultural Marketing Service, USDA.

ACTION: Notice.

SUMMARY: This notice announces the conclusion of a pilot test of the International Trade Data System (ITDS) involving the electronic submission of data related to importations of fruits, vegetables, and specialty crops. The Agricultural Marketing Service (AMS) regulates imports of the food commodities and is engaged in a partnership with U.S. Customs and Border Protection (CBP) and other government agencies to test the Partner Government Agency (PGA) Message Set component of the Automated Commercial Environment (ACE). The submission of this import information is required under section 608e (section 8e-1) of the Agricultural Marketing Agreement Act of 1937. The pilot program tested the electronic transmission of data related to AMS's responsibilities through CBP's ACE known as the PGA Message Set to AMS's Compliance Enforcement Management System (CEMS).

DATES: The pilot test will conclude on September 2, 2020.

FOR FURTHER INFORMATION CONTACT: Richard Lower, Assistant to the Director, Marketing Order and Agreement Division, Specialty Crops Program, AMS, USDA, 1400 Independence Avenue SW, STOP 0237, Washington, DC 20250-0237; Telephone: (202) 720-2491, Fax: (202) 720-8938; Email: Richard.Lower@usda.gov.

SUPPLEMENTARY INFORMATION: This notice announces the conclusion of the pilot in which AMS tested the electronic filing of section 8e data in the ACE via the PGA Message Set. On August 6, 2015, AMS published a notice in the Federal Register (80 FR 46947) announcing a pilot test of the PGA Message Set for the electronic submission of import data required by section 8e. The pilot was set to begin no earlier than July 13, 2015 and was to continue until its conclusion was announced by publication in the Federal Register.

International Trade Data System

The pilot was conducted in furtherance of ITDS, which is statutorily authorized by section 405 of the Security and Accountability for Every (SAFE) Port Act of 2006, Public Law 109-347. The purpose of ITDS, as stated in section 405 of the SAFE Port Act of 2006 (19 U.S.C. 1411(d)), is to “eliminate redundant information filing requirements, efficiently regulate the flow of commerce, and effectively enforce laws and regulations relating to international trade, by establishing a single portal system, operated by the U.S. Customs and Border Protection (CBP), for the collection and distribution of standard electronic import data required by all participating Federal agencies.”

ITDS provides an electronic “single window” to the import trade through CBP's ACE, which streamlines business processes, facilitates growth in trade, ensures cargo security, and fosters participation in global commerce, while ensuring compliance with U.S. laws and regulations and reducing costs for CBP and all of its communities of interest. ACE is the primary system through which the global trade community electronically files information about imports so that admissibility into the United States may be determined and government agencies, including AMS, may ensure compliance.

Partner Government Agency Message Set

The PGA Message Set is the data needed to satisfy PGA reporting requirements. ACE enables the message set by acting as the “single window” through which trade-related data required by the PGAs is submitted by trade participants only once to CBP. This data must be submitted prior to the arrival of the merchandise on the conveyance transporting the cargo to the United States as part of an ACE Entry/Cargo Release or Entry Summary. After trade participants submit the data, the system validates and makes the information available to the relevant PGAs involved in import, export, and transportation-related decision making. The data is used to complete merchandise entry and entry summary requirements, and allows for earlier release decisions and more certainty for the importer in determining the logistics of cargo delivery. Also, the electronic PGA Message Set eliminates the necessity for the submission and subsequent handling of paper documents.

Conclusion of ITDS Imports Pilot for AMS

The pilot was set to begin no earlier than July 13, 2015 and was to continue until its conclusion was announced by publication in the Federal Register. AMS initially conducted the pilot at certain ports of entry and eventually expanded the pilot nationally. The pilot tested the transmission of AMS data through CBP's ACE and the analysis of that data by AMS's CEMS. CBP and AMS have evaluated the transmission and analysis of the trade data related to AMS responsibilities and have found the pilot successful. As such, the ACE PGA Message Set is deemed to have the operational capabilities necessary to electronically collect the section 8e data required by AMS, and AMS's CEMS is deemed to have the operational capabilities necessary to analyze that data. Therefore, this rule announces the conclusion of the AMS PGA Message Set pilot for imports.

The public was invited to comment on any aspects of the pilot. No comments were received.

Bruce Summers,
Administrator, Agricultural Marketing Service.

[FR Doc. 2020-10944 Filed 6-10-20; 8:45 am]

BILLING CODE 3410-02-P